GENERAL SERVICES ADMINISTRATION

[Notice-GTAC-2013-03; Docket No. 2013-0002; Sequence 30]

Government-Wide Travel Advisory Committee (GTAC); Public Advisory Committee Meeting

AGENCY: Office of Government-Wide Policy, General Services Administration (GSA).

ACTION: Notice.

SUMMARY: The Government-wide Travel Advisory Committee (GTAC) (the Committee), is a Federal Advisory Committee established in accordance with the Federal Advisory Committee Act (FACA), 5 U.S.C., App 2. This notice provides the public meeting dates for the remainder of the 2013 calendar year for the GTAC: November 7, 2013 and December 10, 2013. The meetings are open to the public via teleconference.

DATES: The meetings will be held on Thursday, November 7, 2013, beginning at 9:00 a.m. Eastern Standard Time, and ending no later than 4:00 p.m. Eastern Standard Time and Tuesday, December 10, 2013, beginning at 9:00 a.m. Eastern Standard Time, and ending no later than 4:00 p.m. Eastern Standard Time.

FOR FURTHER INFORMATION CONTACT: Ms. Marcerto Barr, Designated Federal Officer (DFO), Government-wide Travel Advisory Committee (GTAC), Office of Government-wide Policy, General Services Administration, 1800 F Street NW., Washington, DC 20405, 202-208-7654 or by email to: gtac@gsa.gov.

SUPPLEMENTARY INFORMATION:

Authority: The GSA Office of Asset and Transportation Management, Travel and Relocation Division, establishes policy that governs travel by Federal civilian employees and others authorized to travel at Government expense on temporary duty travel through the Federal Travel Regulation (FTR).

Agenda: The Committee will continue to discuss the FTR per diem for lodging as well as Meals and Incidental Expenditures allowances. The Committee may discuss other topics to be determined at a later date associated with the FTR.

Meeting Access: The meeting is open to the public via teleconference. Members of the public wishing to listen in on the GTAC discussion are recommended to visit the GTAC Web site at: www.gsa.gov/gtac to obtain registration details. Members of the public will not have the opportunity to ask questions or otherwise participate in the meeting. However, members of the public wishing to comment on the discussion or topics outlined in the agenda should follow the steps detailed in Procedures for Providing Public Comments.

Availability of Materials for the Meeting: Please see the GTAC Web site www.gsa.gov/gtac for any available materials and detailed meeting notes after the meeting.

Procedures for Providing Public Comments: In general, public comments will be posted to www.gsa.gov/gtac. Non-electronic documents will be made available for public inspection and copying at GSA, 1800 F Street NW., Washington, DC 20405, on official business days between the hours of 10:00 a.m. Eastern Standard Time and 4:00 p.m. Eastern Standard Time. The public can make an appointment to inspect comments by telephoning the DFO at 202-208-7654. All comments, including attachments and other supporting materials received, are part of the public record and subject to public disclosure. Any comments submitted in connection with the GTAC meeting will be made available to the public under the provisions of the Federal Advisory Committee Act.

The public is invited to submit written comments within 7 business days after each meeting by either of the following methods and cite Meeting Notice-GTAC-2013-03.

Electronic or Paper Comments: (1) Submit electronic comments to gtac@gsa.gov; or

(2) submit paper comments to the attention of Ms. Marcerto Barr at GSA, 1800 F Street NW., Washington, DC 20405.

Dated: September 6, 2013.
Carolyn Austin-Diggs,
Acting Deputy Associate Administrator, Office of Asset and Transportation Management, Office of Government-wide Policy.

[FR Doc. 2013-22190 Filed 9-11-13; 8:45 am]

BILLING CODE 6820-14-P